ENVIRONMENTAL PROTECTION AGENCY

[FRL 9774-6]

Clean Air Act Operating Permit Program; Petition for Objection to State Operating Permit for Wisconsin Public Service Corporation—JP Pulliam Plant

AGENCY: Environmental Protection Agency (EPA).

ACTION: Notice of final order on petition to object to Clean Air Act operating permit.

SUMMARY: This document announces that the EPA Administrator has responded to a petition asking EPA to object to a Clean Air Act (Act) operating permit issued by the Wisconsin Department of Natural Resources. Specifically, the Administrator denied the petition submitted by David Bender of McGillivray Westerberg and Bender, LLC, on behalf of the Sierra Club, to object to the operating permit for Wisconsin Public Service Corporation—JP Pulliam Plant.

Pursuant to section 505(b)(2) of the Act, a petitioner may seek judicial review in the United States Court of Appeals for the appropriate circuit of those portions of the petition which EPA denied. Any petition for review shall be filed within 60 days from the date this notice appears in the Federal Register, pursuant to section 307 of the Act.

ADDRESSES: You may review a copy of the final order, the petition, and other supporting information at the EPA Region 5 Office, 77 West Jackson Boulevard, Chicago, Illinois 60604. If you wish to examine these documents, you should make an appointment at least 24 hours before visiting day. Additionally, the final order for the JP Pulliam Plant petition is available electronically at: http://www.epa.gov/region07/air/title5/petitiondb/petitions/pulliam_response2012.pdf.

FOR FURTHER INFORMATION CONTACT: Genevieve Damico, Chief, Air Permits Section, Air Programs Branch, Air and Radiation Division, EPA, Region 5, 77 West Jackson Boulevard, Chicago, Illinois 60604, telephone (312) 353-4761.

SUPPLEMENTARY INFORMATION: The Act affords EPA a 45-day period to review, and object to as appropriate, operating permits proposed by state permitting authorities. Section 505(b)(2) of the Act authorizes any person to petition the EPA Administrator within 60 days after the expiration of the EPA review period to object to state operating permits if EPA has not done so. A petition must be based only on objections to the permit that were raised with reasonable specificity during the public comment period provided by the state, unless the petitioner demonstrates that it was impracticable to raise issues during the comment period, or the grounds for the issues arose after this period.

On October 2, 2012, David Bender of McGillivray Westerberg & Bender LLC, submitted a petition to EPA on behalf of the Sierra Club, requesting that EPA object to the Title V operating permit for the Wisconsin Public Service Corporation—JP Pulliam Plant. The petition raised issues regarding: (1) the alleged failure to include heat input limits from permits issued in 1987 and 1988 and/or reflect Prevention of Significant Deterioration/Nonattainment New Source Review requirements; and (2) the sufficiency of particulate matter monitoring for boilers B24—B27.

On January 7, 2013, the Administrator issued an order denying the petition. The order explains the reasons behind EPA's conclusions.

Dated: January 17, 2013.
Susan Hedman,
Regional Administrator, Region 5.

[FR Doc. 2013-02105 Filed 1-30-13; 8:45 am]

BILLING CODE 6560-50-P